FEDERAL ELECTION COMMISSION

Sunshine Act Meetings

FEDERAL REGISTER CITATION OF PREVIOUS ANNOUNCEMENT: 90 FR 20673.

PREVIOUSLY ANNOUNCED TIME AND DATE OF THE MEETING: Tuesday, May 20, 2025 at 10 a.m.

CHANGES IN THE MEETING: The meeting began at 11 a.m. and also discussed: Compliance matters pursuant to 52 U.S.C. 30109.

CONTACT FOR MORE INFORMATION: Myles Martin, Deputy Press Officer, telephone: (202) 694-1221.

(Authority: Government in the Sunshine Act, 5 U.S.C. 552b)

Vicktoria J. Allen,
Deputy Secretary of the Commission.

[FR Doc. 2025-09361 Filed 5-20-25; 4:15 pm]

BILLING CODE 6715-01-P